DEPARTMENT OF TRANSPORTATION

Federal Aviation Administration

14 CFR Part 39

[Docket No. FAA-2013-0832; Directorate Identifier 2012-NM-047-AD; Amendment 39-17612; AD 2013-20-06]

RIN 2120-AA64

Airworthiness Directives; Airbus Airplanes

AGENCY: Federal Aviation Administration (FAA), Department of Transportation (DOT).

ACTION: Final rule; request for comments.

SUMMARY: We are adopting a new airworthiness directive (AD) for all Airbus Model A340-211 -212, -213, -311, -312, -313, -541, and -642 airplanes. This AD requires revising the maintenance program to incorporate certain maintenance requirements and airworthiness limitations. This AD was prompted by a determination that existing maintenance requirements are not adequate to address the unsafe condition. We are issuing this AD to address the aging effects of aircraft systems. Such aging effects could change the characteristics of systems life-limited components leading to an increased potential for failure, which, in isolation or in combination with one or more other specific failures or events, could result in failure of certain life limited parts, which could reduce the structural integrity or the controllability of the airplane.

DATES: This AD becomes effective November 12, 2013.

The Director of the Federal Register approved the incorporation by reference of a certain publication listed in the AD as of November 12, 2013.

We must receive comments on this AD by December 12, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this AD, the MCAI, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

The European Aviation Safety Agency (EASA), which is the Technical Agent for the Member States of the European Community, has issued EASA Airworthiness Directive 2012-0021, dated January 30, 2012 (referred to after this as the Mandatory Continuing Airworthiness Information, or “the MCAI”), to correct an unsafe condition for the specified products. The MCAI states:

The mandatory instructions and airworthiness limitations applicable to the Ageing Systems Maintenance (ASM) are specified in Airbus A340 [Airworthiness Limitations Section] ALS Part 4, which is approved by the European Aviation Safety Agency (EASA).

The revision 02 of Airbus A340 ALS Part 4 introduces more restrictive maintenance requirements and/or airworthiness limitations. Failure to comply with the instructions of ALS Part 4 could result in an unsafe condition.

This [EASA] AD requires the implementation of the maintenance requirements and/or airworthiness limitations as specified in Airbus A340 ALS Part 4 revision 02, approved on 12 October 2011. * * *

The unsafe condition is the aging effects of aircraft systems. Such aging effects could change the characteristics of systems life-limited components leading to an increased potential for failure, which, in isolation or in combination with one or more other specific failures or events, could result in failure of certain life limited parts, which could reduce the structural integrity or the controllability of the airplane. You may obtain further information by examining the MCAI in the AD docket.

Relevant Service Information

Airbus has issued A340 Airworthiness Limitations Section (ALS), Part 4, Aging Systems Maintenance, Revision 02, dated October 12, 2011. The actions described in this service information are intended to correct the unsafe condition identified in the MCAI.

Related Rulemaking

Certain maintenance requirements specified in A340 ALS, Part 4—Aging Systems Maintenance, Revision 02, dated October 12, 2011, are already required by other ADs. Therefore, accomplishing the actions required by this AD will terminate the requirements of the following ADs for Model A340 airplanes.

• AD 2003-14-11, Amendment 39-13230 (68 FR 41521, July 14, 2003).

• AD 2004-11-08, Amendment 39-13654 (69 FR 31874, June 8, 2004).

• AD 2004-13-25, Amendment 39-13707 (69 FR 41394, July 9, 2004).

• AD 2004-18-14, Amendment 39-13793 (69 FR 55326, September 14, 2004).

• AD 2007-05-12, Amendment 39-14973 (72 FR 10057, March 7, 2007).

• AD 2008-06-07, Amendment 39-15419 (73 FR 13103, March 12, 2008; corrected April 15, 2008 (73 FR 20367)).

• AD 2012-04-07, Amendment 39-16963 (77 FR 12989, March 5, 2012).

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j)(1) of this AD. The request should include a description of changes to the required inspections that will ensure the continued operational safety of the airplane.

There are no products of this type currently registered in the United States. However, this rule is necessary to ensure that the described unsafe condition is addressed if any of these products are placed on the U.S. Register in the future.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2013-0832; Directorate Identifier 2012-NM-047-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 0 airplanes of U.S. registry.

We estimate the following costs to comply with this AD:

Estimated Costs
Action | Labor cost | Parts cost | Cost per product | Cost on U.S. operators
Maintenance program revision | 2 work-hours × $85 per hour = $170 per revision | $0 | $170 per revision | $0

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-20-06 Airbus: Amendment 39-17612. Docket No. FAA-2013-0832; Directorate Identifier 2012-NM-047-AD.

(a) Effective Date

This airworthiness directive (AD) becomes effective November 12, 2013.

(b) Affected ADs

This AD affects the ADs specified in paragraphs (b)(1) through (b)(7) of this AD:

(1) AD 2003-14-11, Amendment 39-13230 (68 FR 41521, July 14, 2003);

(2) AD 2004-11-08, Amendment 39-13654 (69 FR 31874, June 8, 2004);

(3) AD 2004-13-25, Amendment 39-13707 (69 FR 41394, July 9, 2004);

(4) AD 2004-18-14, Amendment 39-13793 (69 FR 55326, September 14, 2004);

(5) AD 2007-05-12, Amendment 39-14973 (72 FR 10057, March 7, 2007);

(6) AD 2008-06-07, Amendment 39-15419 (73 FR 13103, March 12, 2008; corrected April 15, 2008 (73 FR 20367)); and

(7) AD 2012-04-07, Amendment 39-16963 (77 FR 12989, March 5, 2012).

(c) Applicability

This AD applies to Airbus Model A340-211, -212, -213, -311, -312, -313, -541, and -642 airplanes; certificated in any category; all manufacturer serial numbers.

(d) Subject

Air Transport Association (ATA) of America Code 05, Time Limits/Maintenance Checks.

(e) Reason

This AD was prompted by a determination that existing maintenance requirements are not adequate to address the unsafe condition. We are issuing this AD to address the aging effects of aircraft systems. Such aging effects could change the characteristics of systems life-limited components leading to an increased potential for failure, which, in isolation or in combination with one or more other specific failures or events, could result in failure of certain life limited parts, which could reduce the structural integrity or the controllability of the airplane.

(f) Compliance

You are responsible for having the actions required by this AD performed within the compliance times specified, unless the actions have already been done.

(g) Maintenance Program Revision

Within 6 months after the effective date of this AD, revise the maintenance program by incorporating A340 Airworthiness Limitations Section (ALS), Part 4—Aging Systems Maintenance, Revision 02, dated October 12, 2011. Comply with all applicable instructions and airworthiness limitations included in A340 ALS, Part 4—Aging Systems Maintenance, Revision 02, dated October 12, 2011. The initial compliance times for the actions are within the applicable compliance times specified in the Record of Revisions pages of A340 ALS, Part 4—Aging Systems Maintenance, Revision 02, dated October 12, 2011, or within 6 months after the effective date of this AD, whichever is later.

(h) Alternative Actions or Intervals

After accomplishing the revision required by paragraph (g) of this AD, no alternative actions (e.g., inspections) or intervals may be used unless the actions or intervals are approved as an alternative method of compliance (AMOC) in accordance with the procedures specified in paragraph (j)(1) of this AD.

(i) Terminating Action for Other ADs

Accomplishing the revision of the maintenance program and complying with all applicable instructions and airworthiness limitations required by paragraph (g) of this AD terminates the requirements of the ADs specified in paragraphs (i)(1) through (i)(7) of this AD for Model A340 airplanes only.

(1) AD 2003-14-11, Amendment 39-13230 (68 FR 41521, July 14, 2003).

(2) AD 2004-11-08, Amendment 39-13654 (69 FR 31874, June 8, 2004).

(3) AD 2004-13-25, Amendment 39-13707 (69 FR 41394, July 9, 2004).

(4) AD 2004-18-14, Amendment 39-13793 (69 FR 55326, September 14, 2004).

(5) AD 2007-05-12, Amendment 39-14973 (72 FR 10057, March 7, 2007).

(6) AD 2008-06-07, Amendment 39-15419 (73 FR 13103, March 12, 2008; corrected April 15, 2008 (73 FR 20367)).

(7) AD 2012-04-07, Amendment 39-16963 (77 FR 12989, March 5, 2012).

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to Mandatory Continuing Airworthiness Information (MCAI) European Aviation Safety Agency (EASA) Airworthiness Directive 2012-0021, dated January 30, 2012, for related information. You may examine the MCAI on the Internet at http://www.regulations.gov by searching for and locating it in Docket No. FAA-2013-0832.

(2) Service information identified in this AD that is not incorporated by reference may be obtained at the addresses specified in paragraphs (l)(3) and (l)(4) of this AD.

(l) Material Incorporated by Reference

(1) The Director of the Federal Register approved the incorporation by reference (IBR) of the following service information under 5 U.S.C. 552(a) and 1 CFR part 51.

(2) You must use the following service information to do the actions required by this AD, unless the AD specifies otherwise.

(i) A340 Airworthiness Limitations Section (ALS), Part 4—Aging Systems Maintenance, Revision 02, dated October 12, 2011. The revision date is not identified on the title page of this document.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on September 17, 2013.
Ross Landes,
Acting Manager, Transport Airplane Directorate, Aircraft Certification Service.

[FR Doc. 2013-23899 Filed 10-25-13; 8:45 am]

BILLING CODE 4910-13-P